DEPARTMENT OF HOMELAND SECURITY

Federal Emergency Management Agency

[Docket ID: FEMA-2022-0033; OMB No. 1660-NW160]

Agency Information Collection Activities: Proposed Collection; Comment Request; Floodplain Administrator (FPA) National Training Assessment

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning the training needs of National Flood Insurance Program (NFIP) Floodplain Administrators (FPAs) throughout the United States.

DATES: Comments must be submitted on or before March 6, 2023.

ADDRESSES: To avoid duplicate submissions to the docket, please submit comments at www.regulations.gov under Docket ID FEMA-2022-0033. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Michael Gumpert, National Floodplain Management Training Coordinator, FIMA, Floodplain Management Division, Michael.Gumpert@fema.dhs.gov, 202-646-2607. You may contact the Information Management Division for copies of the proposed collection of information at email address: FEMA-Information-Collections-Management@fema.dhs.gov.

SUPPLEMENTARY INFORMATION: The National Flood Insurance Program (NFIP) is authorized by the National Flood Insurance Act of 1968 (title XIII of Pub. L. 90-448, as amended, 42 U.S.C. 4001 et seq.). The general purpose of the NFIP is to create a voluntary program of flood insurance that can promote the public interest by providing appropriate protection against the perils of flood losses and encouraging sound land use by minimizing exposure of property to flood losses; and integrate the objectives of a flood insurance program. Nationally, as of December 2021, over 22,000 communities in 56 states and jurisdictions participate in the NFIP. Each “eligible or participating community,” shall legislatively (1) Appoint or designate the agency or official with the responsibility, authority, and means to implement the commitments of application to the National Flood Insurance Program and (2) Designate the official responsible to submit a report to the Federal Insurance Administrator concerning the community participation in the Program, including, but not limited to the development and implementation of flood plain management regulations. It is common for eligible and participating communities to assign the FPA role to employees who are also simultaneously responsible for other roles such as Police Chief, Town Clerk, Grants Manager, Finance Manager. FPAs are a diverse group with varied socio-economic backgrounds, needs, challenges, abilities, schedules, learning styles, geographies, and resources. A Training Strategy is needed to direct FEMA's limited FPA Training budget into training solutions that address the unique needs of FPAs as well as their varied socio-economic backgrounds, challenges, abilities, schedules, learning styles, geographies, and resources to advance equity, professional development, and retention of FPAs. To be effective, the FPA Training Strategy must be grounded in an accurate understanding FPAs' varied socio-economic backgrounds, needs, challenges, abilities, schedules, learning styles, geographies, and resources. To achieve this understanding, a Training Needs Assessment must be performed. This data has not been collected previously.

FEMA is requesting a three-year clearance to collect information from FPAs regarding their training needs, floodplain management experiences, and demographics to produce improved outcomes for the NFIP. The data will be used to help FEMA, State, Tribal, and Territorial NFIP Offices, and Floodplain Associations to develop equitable training strategies and solutions that effectively and efficiently address the diverse abilities, schedules, learning styles, geographies and resources of FPAs who implement this Federal Government program on behalf of their local communities. The information collection, to be administered by an independent, third-party research organization, will allow for a data-informed approach to understanding the needs and expectations of an important and specific group of FEMA partners and customers for their development and program administration. By using this approach, FEMA will be able to gain important insights about FPAs and how to improve its offerings and support as well as to allocate resources more effectively. The ultimate objective is to reduce the socio-economic impact of floods through better preparation of FPAs to assist communities adopt and enforce floodplain management regulations that help mitigate flooding effects and thus support property owners, renters, and businesses to recover faster after a flooding event.

The primary law that supports the information collection efforts is the Government Performance and Results Act of 1993, 31 U.S.C. 1116, which has as one of its purposes “improve Federal programs effectiveness and public accountability by promoting a new focus on results, service quality, and customer satisfaction.”

Collection of Information

Title: Floodplain Administrator (FPA) National Training Needs Assessment.

Type of Information Collection: New information collection.

OMB Number: 1660-NW160.

FEMA Forms: FEMA Form FF-206-FY-22-159, Floodplain Administrator Training Needs Assessment.

Abstract: The online survey will collect information from Floodplain Administrators regarding their training needs, floodplain management experiences, and demographics. The data will be used to help FEMA, State, Tribal, and Territorial NFIP Offices, and Floodplain Associations to develop training strategies and solutions that effectively and efficiently address those needs to produce improved outcomes for the National Flood Insurance Program.

Affected Public: State, local, or Tribal government.

Estimated Number of Respondents: 6,323.

Estimated Number of Responses: 6,323.

Estimated Total Annual Burden Hours: 3,161.5.

Estimated Total Annual Respondent Cost: $124,310.

Estimated Respondents' Operation and Maintenance Costs: $0.

Estimated Respondents' Capital and Start-Up Costs: $0.

Estimated Total Annual Cost to the Federal Government: $420,329.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-28513 Filed 12-30-22; 8:45 am]

BILLING CODE 9111-47-P